DEPARTMENT OF THE INTERIOR

Bureau of Land Management

[AK-023-02-1410-HY-011L-241A; F-14836-EE]

Public Easement Closure; Prohibition of All Activities

AGENCY: Northern Field Office, Bureau of Land Management, Fairbanks, Alaska.

ACTION: Notice to the public of a temporary closure of a public easement [17(b) of the Alaska Native Claims Settlement Act, 43 U.S.C. Sec. 1616(b)] administered by the Northern Field Office, Bureau of Land Management, Alaska.

SUMMARY: This notice closes a 17(b) easement identified as Easement Identification Number 1 C5, E. The easement is located east of Barrow, Alaska, from Niksiirak to Plover Point. This closure notice is necessary to protect humans from an unprecedented number of polar bears in the area. The welfare of the polar bear population around Barrow, Alaska also necessitates this closure action.

Discussion of this closure has taken place between BLM, the North Slope Borough, Ukpeagvik Inupiat Corporation, and the Native Village of Barrow Inupiat Traditional Government.

DATES: This closure is effective September 23, 2002, and will be in effect until May 1, 2003, unless revoked earlier by the Authorized Officer.

FOR FURTHER INFORMATION: Additional information concerning the closure may be obtained from Craig McCaa, Public Affairs, BLM Northern Field Office, 1150 University Avenue, Fairbanks, Alaska 99709-3844. Mr. McCaa may be reached at (907) 474-2231 or at 1-800-437-7021, x2231, or at Craig_McCaa@ak.blm.gov.

SUPPLEMENTARY INFORMATION:

Closure Order

1. Authority: 43 Code of Federal Regulations (CFR) 8364.1.

2. Closure: The following described lands are closed to all activity.

Lands Affected

Sec. 12 & 13, T. 23 N., R. 18 W., and Sec. 3, 4, 5, 7, 8, 10, 18, 32 and 33, T. 23 N., R. 17 W., of the Umiat Meridian, approximately 1 acre.

Dated: September 24, 2002.
Susan M. Will,
Associate Field Manager, Northern Field Office, Bureau of Land Management.

[FR Doc. 02-27479 Filed 10-28-02; 8:45 am]

BILLING CODE 4310-JA-P